DEPARTMENT OF AGRICULTURE

U.S. Codex Office

Codex Alimentarius Commission: Meeting of the Codex Committee on Pesticide Residues

AGENCY: U.S. Codex Office, USDA.

ACTION: Notice of public meeting and request for comments.

SUMMARY: The U.S Codex Office is sponsoring a public meeting on May 25, 2023. The objective of the public meeting is to provide information and receive public comments on agenda items and draft U.S. positions to be discussed at the 54th Session of the Codex Committee on Pesticide Residues (CCPR) of the Codex Alimentarius Commission (CAC), which will convene in Beijing, China from June 26-July 1, 2023. The U.S. Manager for Codex Alimentarius and the Under Secretary for Trade and Foreign Agricultural Affairs recognize the importance of providing interested parties the opportunity to obtain background information on the 54th Session of the CCPR and to address items on the agenda.

DATES: The public meeting is scheduled for May 25, 2023, from 2-4 p.m. EDT.

ADDRESSES: The public meeting will take place via Video Teleconference only. Documents related to the 54th Session of the CCPR will be accessible via the internet at the following address: https://www.fao.org/fao-who-codexalimentarius/meetings/detail/en/?meeting=CCPR&session=54.Mr. Aaron Niman, U.S. Delegate to the 54th Session of the CCPR, invites interested U.S. parties to submit their comments electronically to the following email address: niman.aaron@epa.gov.

Registration: Attendees must register to attend the public meeting at the following link: https://www.zoomgov.com/meeting/register/vJItdOurpz8vEw74qzY2IOC-3PUkfxxyf2w.

After registering, you will receive a confirmation email containing information about joining the meeting.

For further information about the 54th Session of the CCPR, contact U.S. Delegate, Mr. Aaron Niman, niman.aaron@epa.gov, (202) 566-2177. For further information about the public meeting contact the U.S. Codex Office by email at: uscodex@usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Pesticide Residues (CCPR) are:

(a) to establish maximum limits for pesticide residues in specific food items or in groups of food;

(b) to establish maximum limits for pesticide residues in certain animal feeding stuffs moving in international trade where this is justified for reasons of protection of human health;

(c) to prepare priority lists of pesticides for evaluation by the Joint FAO/WHO Meeting on Pesticide Residues (JMPR);

(d) to consider methods of sampling and analysis for the determination of pesticide residues in food and feed;

(e) to consider other matters in relation to the safety of food and feed containing pesticide residues; and,

(f) to establish maximum limits for environmental and industrial contaminants showing chemical or other similarity to pesticides, in specific food items or groups of food.

The CCPR is hosted by China. The United States attends the CCPR as a member country of Codex.

Issues To Be Discussed at the Public Meeting

The following items from the forthcoming Agenda for the 54th Session of the CCPR will be discussed during the public meeting:

• Adoption of the Agenda

• Appointment of Rapporteurs

• Matters referred to CCPR by CAC and/or other subsidiary bodies

• Matters of interest arising from FAO and WHO

• Matters of interest arising from other international organizations

• Report on items of general consideration arising from the 2022 JMPR regular meeting

• Report on responses to specific concerns raised by CCPR arising from the 2022 JMPR regular meeting

• Maximum Residue Limits (MRLs) for pesticides in food and feed

• Revision of the Classification of Food and Feed (CXM 4/1989) on the following:

(i) Class B—Primary Food Commodities of Animal Origin and Class E—Processed Foods of Animal Origin (All Types)

(ii) Tables on examples of representative commodities for commodity groups in different types under Class B and Class E (for inclusion in the Principles and Guidance for the Selection of Representative Commodities for the Extrapolation of MRLs for Pesticides to Commodity Group (CXG 84-2012))

(iii) Portion of the commodity to which the MRLs apply, and which is analyzed for Group 006 Assorted tropical and sub-tropical fruits—inedible peel and Group 023 Oilseeds (Australia)

(iv) Review the Guidelines on portion of commodities to which MRLs apply and which is analyzed (CXG 41-1993)

• Coordination of work between CCPR and CCRVDF: Joint CCPR/CCRVDF Working Group on Compounds for Dual Use—Status of work

• Management of unsupported compounds without public health concern scheduled for periodic review

• National registrations of pesticides (National Registration Database for Pesticides for Periodic Review by JMPR)

• Establishment of Codex Schedules and Priority Lists of Pesticides for Evaluation/Re-Evaluation by JMPR

• Discussion paper on monitoring the purity and stability of certified reference material of multi-class pesticides during prolonged storage

• Discussion Paper on the Enhancement of the Operational Procedures of CCPR and JMPR

• Other Business and Future Work

Public Meeting

At the May 25, 2023, public meeting, draft U.S. positions on the agenda items will be described and discussed, and attendees will have the opportunity to pose questions and offer comments. Written comments may be offered at the meeting or sent to Mr. Aaron Niman, U.S. Delegate for the 54th Session of the CCPR (see ADDRESSES). Written comments should state that they relate to activities of the 54th Session of the CCPR.

Additional Public Notification

Public awareness of all segments of rulemaking and policy development is important. Consequently, the U.S. Codex Office will announce this Federal Register publication on-line through the USDA web page located at: https://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC.
Mary Frances Lowe,
U.S. Manager for Codex Alimentarius.

[FR Doc. 2023-07170 Filed 4-5-23; 8:45 am]

BILLING CODE P